COMMISSION ON CIVIL RIGHTS

Notice of Public Meeting of the Michigan Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Michigan Advisory Committee (Committee) to the Commission will be held at 9 a.m. to 5 p.m. (Eastern Time) Tuesday, April 30, 2019, the purpose of meeting is for the Committee to receive testimony on voting rights and voter participation in Michigan. In particular, the Committee will examine the extent to which state voters have equal access to exercise their right to vote regardless of race, color, disability status, national origin, age, religion, and/or sex.

DATES: The meeting will be held on Tuesday, April 30, 2019, at 9 a.m. to 5 p.m. Eastern Time.

Location: Wayne State University Law School, Spencer M. Partrich Auditorium, 471 West Palmer Street, Detroit, MI 48202.

FOR FURTHER INFORMATION CONTACT: Ana Victoria Fortes (DFO) at afortes@usccr.gov or (213) 894-3437.

SUPPLEMENTARY INFORMATION: Members of the public are entitled to provide comment during two open comment periods and also submit written comments; the comments must be received in the regional office within 30 days following the meeting. Written comments may be mailed to the Regional Programs Unit Office, U.S. Commission on Civil Rights, 230 S Dearborn St., Suite 2120, Chicago, IL 60604. They may also be faxed to the Commission at (312) 353-8324, or emailed to Carolyn Allen at callen@usccr.gov. Persons who desire additional information may contact the Regional Programs Office at (312) 353-8311.

Records and documents discussed during the meeting will be available for public viewing prior to and after the meeting at https://www.facadatabase.gov/FACA/FACAPublicViewCommitteeDetails?id=a10t0000001gzjPAAQ. Please click on the “Committee Meetings” tab. Records generated from this meeting may also be inspected and reproduced at the Regional Programs Unit, as they become available, both before and after the meeting. Persons interested in the work of this Committee are directed to the Commission's website, http://www.usccr.gov, or may contact the Regional Programs Unit at the above email or street address.

Agenda

I. Opening Remarks and Introductions (9:00 a.m.-9:10 a.m.)

II. Panel Presentations

Voting Across Protected Groups (9:10 a.m.-10:05 a.m.)

Voter Registration and Poll Administration (10:15 a.m.-11:20 a.m.)

Open Comment (11:20 a.m.-12:00 p.m.)

Break (11:50 a.m.-1:20 p.m.)

Voter Accessibility (1:20 p.m.-2:40 p.m.)

Government Perspectives (2:40 p.m.-4:40 p.m.)

Open Comment (4:10 p.m.-4:50 p.m.)

III. Closing Remarks (4:50 p.m.-5:00 p.m.)

Dated: April 3, 2019.
David Mussatt,
Supervisory Chief, Regional Programs Unit.

[FR Doc. 2019-06877 Filed 4-5-19; 8:45 am]

BILLING CODE P